DEPARTMENT OF HOMELAND SECURITY

Federal Emergency Management Agency

[Docket ID FEMA-2017-0026; OMB No. 1660-NW103]

Agency Information Collection Activities: Submission for OMB Review; Comment Request; Federal Emergency Management Agency Programs Customer Satisfaction Surveys

AGENCY: Federal Emergency Management Agency, DHS.

ACTION: Notice of new information collection; request for comments.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before October 13, 2017.

ADDRESSES: Submit written comments on the proposed information collection to the Office of Information and Regulatory Affairs, Office of Management and Budget. Comments should be addressed to the Desk Officer for the Department of Homeland Security, Federal Emergency Management Agency, and sent via electronic mail to dhsdeskofficer@omb.eop.gov.

FOR FURTHER INFORMATION CONTACT: Requests for additional information or copies of the information collection should be made to Director, Records Management Division, 500 C Street SW., Washington, DC 20472-3100, email address FEMA-Information-Collections-Management@fema.dhs.gov, or, Maggie Billing, Program Analyst, FEMA at (940) 891-8709.

SUPPLEMENTARY INFORMATION: This proposed information collection previously published in the Federal Register on June 30, 2017 at 82 FR 29911 with a 60 day public comment period. No comments were received. The purpose of this notice is to notify the public that FEMA will submit the information collection abstracted below to the Office of Management and Budget for review and clearance.

Collection of Information

Title: Federal Emergency Management Agency Programs Customer Satisfaction Surveys.

Type of information collection: New information collection.

OMB Number: 1660-NW103.

Form Titles and Numbers: FEMA Form 519-0-45, Preparedness Survey—Electronic; FEMA Form 519-0-44, Preparedness Survey—Phone; FEMA Form 519-0-47, Transitional Sheltering Assistance (TSA) Survey—Electronic; FEMA Form 519-0-46, Transitional Sheltering Assistance (TSA) Survey—Phone; FEMA Form 519-0-49, Temporary Housing Units (THU) Survey—Electronic; FEMA Form 519-0-48, Temporary Housing Units (THU) Survey—Phone; FEMA Form 519-0-51, Shelter and Temporary Essential Power (STEP) Survey—Electronic; FEMA Form 519-0-50, Shelter and Temporary Essential Power (STEP) Survey—Phone.

Abstract: Federal agencies are required to survey their customers to determine the kind and quality of services customers want and their level of satisfaction with those services. Analysis from the survey is used to measure FEMA's survivor-centric mission of being accessible, simple, timely and effective in meeting the needs of survivors.

Affected Public: Individuals and households.

Estimated Number of Respondents: 8,896.

Estimated Number of Responses: 8,896.

Estimated Total Annual Burden Hours: 5,548.

Estimated Total Annual Respondent Cost: The estimated annual burden hour cost to respondents is $193,292. The estimated annual non-labor cost to respondents participating and traveling to focus groups is $30,816.

Estimated Respondents' Operation and Maintenance Costs: There are no annual costs to respondents' operations and maintenance costs for technical services.

Estimated Respondents' Capital and Start-Up Costs: There are no annual start-up or capital costs.

Estimated Total Annual Cost to the Federal Government: The cost to the Federal Government is $716,338.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: September 8, 2017.
William H. Holzerland,
Senior Director for Information Management, Mission Support, Federal Emergency Management Agency, Department of Homeland Security.

[FR Doc. 2017-19413 Filed 9-12-17; 8:45 am]

BILLING CODE 9111-23-P